DEPARTMENT OF COMMERCE

National Oceanic and Atmospheric Administration

RIN: 0648-XQ13

Western Pacific Fishery Management Council; Public Meetings

AGENCY: National Marine Fisheries Service (NMFS), National Oceanic and Atmospheric Administration (NOAA), Commerce.

ACTION: Notice of public meetings and hearings.

SUMMARY: The Western Pacific Fishery Management Council (Council) will hold its Fisheries Data Coordinating Committee (FDCC), 101st Scientific and Statistical Committee (SSC) and 145th Council meetings to take recommendations and action on fishery management issues in the Western Pacific Region.

DATES: The FDCC will be held on July 19, The 101st SSC Meeting will be held on July 20-22, 2009 and the 145th Council meeting will be held on July 22-25, 2009. All meetings will be held in Kona, HI. For specific times and agendas, see SUPPLEMENTARY INFORMATION.

ADDRESSES: The SSC and Council meetings will be held at the King Kamehameha's Kona Beach Hotel, 75-5660 Palani Road, Kailua-Kona, HI 96740; telephone: (808) 329-2911.

FOR FURTHER INFORMATION CONTACT: Kitty M. Simonds, Executive Director; telephone: (808) 522-8220.

SUPPLEMENTARY INFORMATION: In addition to the agenda items listed here, the SSC and Council will hear recommendations from Council advisory groups. Public comment periods will be provided throughout the agendas. The order in which agenda items are addressed may change. The meetings will run as late as necessary to complete scheduled business.

Schedule for FDCC Meeting:

Sunday, July 19, 2009, 10 a.m. - 5 p.m.

Schedule and Agenda for 101 SSC Meeting:

Monday, July 20, 2009, 8:30 a.m. - 5 p.m.

1. Introductions

2. Approval of Draft Agenda and Assignment of Rapporteurs

3. Status of the 100th SSC Meeting Recommendations

4. Report from the Pacific Islands Fisheries Science Center (PIFSC)

5. Program Planning

A. Recommendations on Fishing Regulations for Pacific Monuments (Action Item)

B. Instituting Limited Access Privilege Programs (LAPPs or Catch Shares) for the Western Pacific Region

C. PIFSC Coral Reef Ecosystem Division (CRED) Surveys

1. Review of CRED Survey Methodologies

2. Modifications to CRED Surveys

D. Vulnerability Evaluation Working Group Final Report

E. Research

1. Five-Year Research Priorities

F. Public Comment

G. Discussion and Recommendations

6. Insular Fisheries

A. Hawaii Archipelago

1. Recommendations for Hancock Groundfish Moratorium (Action Item)

2. Western Pacific Stock Assessment Review (WPSAR) Stock Assessment Review

3. Recommendations on Main Hawaiian Islands (MHI) Bottomfish Total Allowable Catch (TAC) (Action Item)

4. Recommendations on MHI Bottomfish LAPP (Action Item)

B. American Samoa Archipelago

1. Fagatele Bay National Marine Sanctuary Coral Recovery

C. Setting Allowable Biological Catches (ABCs) for Insular Stocks

D. Public Comment

E. Discussion and Recommendations

Tuesday, July 21, 2009, 8:30 a.m. - 5 p.m.

7. Pelagic Fisheries

A. Recent Changes at the Top and Bottom of the North Pacific Pelagic Ecosystem

B. Preliminary Oceanographic Characterization of Ocean Slicks off Kona

C. Longline Management

1. Update on Hawaii Shallow-set Fishery

2. Tuna Quota Management

a. Update on 2009 Longline and Purse Seine Tuna Quota

b. Recommendations on Tuna Quota Management (Action Item)

3. Recommendations on Tuna Quota Monitoring (Action Item)

D. Non-Longline Management (Action Item)

1. Recommendations on Cross Seamount/NOAA Weather Buoy Fishery

Limited Entry Program & New Control Date

E. American Samoa and Hawaii Longline Quarterly Reports

F. International Fisheries/Meetings

1. Inter-American Tropical Tuna Commission (IATTC) Conservation and Management Measures

2. Report of the Second Tuna Regional Fishery Management Organizations (RFMOs) Meeting

G. Public Comment

H. Discussion and Recommendations

8. Protected Species

A. Report on Marine Mammal Advisory Committee Meeting

B. Take Reduction Team for False Killer Whales

C. ESA consultation for American Samoa Longline Fishery

D. Monk Seal Critical Habitat Determination

E. Stock Definitions and Assessments for Marine Mammals

F. Sea Turtle Analysis For Offsetting Fishery Impacts

G. Turtle Conservation Program

H. NMFS Pacific Islands Regional Office (PIRO) Sea Turtle Program and Regional Management Plan

I. Public Comment

J. Discussion and Recommendations

Wednesday, July 22, 2009, 8:30 a.m. - 5 p.m.

9. Other Business

A. Gap Analysis of the National System of Marine Protected Areas (MPAs)

B. 102nd SSC Meeting

10. Summary of SSC Recommendations to the Council

Schedule for 145th Council Meeting Standing Committees:

Wednesday, July 22, 2009

1. 1 p.m. - 3 p.m.: Pelagic and International Standing Committee

2. 3 p.m. - 5 p.m.: Executive and Budget Standing Committee

Schedule and Agenda for 145th Council Meeting:

Wednesday, July 22, 2009, 6:30 p.m. - 9:30 p.m.

1. Introductions

2. Approval of Agenda

3. Approval of 144th Meeting Minutes

4. Agency Reports

A. National Marine Fisheries Service

1. Pacific Islands Regional Office

2. Pacific Islands Fisheries Science Center

B. NOAA General Counsel

C. NOAA National Marine Sanctuary

D. President Obama's Ocean Initiatives

E. U.S. Fish and Wildlife Service

F. State Department

G. National Weather Service

H. Enforcement

1. U.S. Coast Guard

2. NOAA Office for Law Enforcement

3. Status of Violations

I. Public Comment

J. Council Discussion and Action

Thursday, July 23, 2009, 8:30 a.m. - 6 p.m.

Guest Speaker: Using ecosystem models for fishery management

5. American Samoa Archipelago Fisheries

A. Motu Lipoti

B. Enforcement Report

C. Community Issues

1. Impacts of Chicken of the Sea Samoa Packing Cannery Closure

2. Responsible Fishery Development

a. Department of Commerce Fishery Development Meetings

b. Governor's Economic Advisory Council

D. Education and Outreach Report

E. Fono Report

F. SSC Recommendations

G. Public Comment

H. Council Discussion and Action

6. Mariana Archipelago Fisheries

A. Island Reports

1. Arongol Faleey

2. Isla Informe

B. Enforcement Report

1. CNMI

2. Guam

C. Community Issues

1. Impacts of Marianas Training Range Complex & Farallon de Medinilla Restrictions

2. Impacts of Guam Buildup

3. Responsible Fishery Development

a. CNMI

b. Guam

D. Education and Outreach Reports

1. CNMI

2. Guam

E. Legislative Reports

F. Marianas Advisory Panel Recommendations

G. Marianas Plan Team Recommendations

H. Regional Ecosystem Advisory Committee Recommendations

1. CNMI

2. Guam

I. SSC Recommendations

J. Public Comment

K. Council Discussion and Action

7. Hawaii Archipelago and Pacific Remote Island Area Fisheries

A. Moku Pepa

B. Enforcement Report

C. Community Issues

1. Aha Kiole Report

D. Hawaii Advisory Group Reports

1. Hawaii Advisory Panel

2. Archipelagic Plan Team

3. Hawaii Regional Ecosystem Advisory Committee Report

E. Hawaii Education Report

F. Legislative Report

G. SSC Recommendations

H. Public Comment

I. Council Discussion and Action

8. Pelagic and International Fisheries

A. Longline Fishery Quarterly Reports

1. American Samoa Longline Fishery

2. Hawaii Longline Limited-entry Longline Fishery

B. Update on Hawaii Shallow-set Longline Fishery

C. International Game Fishing Association Marlin Initiative

D. International Education Report

E. Memorandum of Understanding Update

F. International Fisheries/Meetings

1. IATTC

2. North Pacific Seamount RFMO

3. 2nd Joint Meeting of Tuna RFMO

G. Marine Mammal Advisory Committee Recommendations

H. Advisory Group Recommendations

1. Pelagic Plan Team Recommendations

2. Pelagic Advisory Panel Recommendations

I. SSC Recommendations

J. Pelagics and International Standing Committee Recommendations

K. Public Comment

M. Council Discussion and Action

Thursday, July 23, 2009, 5:30 p.m. - 6:30 p.m.

9. Public Comments on Non-Agenda Items

Thursday, July 23, 2009, 6:30 p.m. - 9 p.m.

FISHERS FORUM: Marlin on the Menu

Friday, July 24, 2009, 8:30 a.m. - 5:30 p.m.

10. Action Items

A. Program Planning

1. Recommendations on Fishing Regulations in the Pacific Marine National Monuments

2. Advisory Group Recommendations

3. SSC Recommendations

4. Public Comment

5. Council Discussion and Action

B. Insular Fisheries

1. Recommendations on the Hancock Seamount Groundfish Moratorium

2. Main Hawaiian Islands Bottomfish

a. Western Pacific Stock Assessment Review of the Main Hawaiian Islands Bottomfish Fishery

b. Recommendations on Total Allowable Catch for Main Hawaiian Islands Bottomfish 2009-10 Season

c. Recommendations on Catch Shares

3. Recommendations on Annual Catch Limits

4. Advisory Group Recommendations

5. SSC Recommendations

6. Public Comment

7. Council Discussion and Action

C. Pelagic and International Fisheries

1. Recommendations on Cross Seamount/NOAA Weather Buoy Fishery Limited Entry Program and Control Date

2. Longline Fisheries

a. Recommendations on Western and Central Pacific Fisheries Commission Quota Management

b. Recommendations on Tuna Quota Monitoring

c. Recommendations on Catch Shares

3. Advisory Group Recommendations

4. SSC Recommendations

5. Pelagic & International Standing Committee Recommendations

6. Public Comment

7. Council Discussion and Action

Saturday, July 25, 2009, 8:30 a.m. - 5 p.m.

11. Program Planning and Research

A. National and International Education and Outreach Reports

B. Research

1. Update on 2009 Cooperative Research Funding and Projects

2. Cooperative Research Process and Priorities

3. Five-Year Research Priorities

C. Update on National Legislation

D. Update on Status of Fishery Management Plan Actions

E. Advisory Group Recommendations

1. Hawaii Advisory Panel

2. Marianas Advisory Panel

4. Hawaii Archipelago Fishery Ecosystem Plan Team

5. Pelagic Fishery Ecosystem Plan Team

6. Marianas Archipelago Fishery Ecosystem Plan Team

7. Hawaii Regional Ecosystem Advisory Committee

8. CNMI Regional Ecosystem Advisory Committee

9. Guam Regional Ecosystem Advisory Committee

F. SSC Recommendations

G. Standing Committee Recommendation

H. Public Comment

I. Council Discussion and Action

12. Administrative Matters and Budgets

A. Financial Report

1. Five-year Budget and Program 2010-14

B. Administrative Report

C. Meetings and Workshops (Calendar)

1. Council Coordinating Committee Meeting Report

D. Council Family Changes

1. Neighbor Island Advisory Panel Additions

2. Changes to Social Science Research Planning Committee

3. Changes to CNMI Advisory Panel

E. Recommendations on Changes to Standard Operation Practices and Procedures (SOPP)

F. Response to GAO Recommendations.

G. Standing Committee Recommendations

H. Public Comment

I. Council Discussion and Action

Other non-emergency issues not contained in this agenda may come before the Council for discussion and formal Council action during its 145th meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: June 30, 2009.
Tracey L. Thompson,
Acting Director, Office of Sustainable Fisheries, National Marine Fisheries Service.

[FR Doc. E9-15778 Filed 7-1-09; 8:45 am]

BILLING CODE 3510-22-S